DEPARTMENT OF TRANSPORTATION

Federal Aviation Administration

Notice of Availability for Draft Environmental Impact Statement (Draft EIS), Draft Section 4(f) Evaluation, Draft Subsistence Evaluation, and Schedule of Public Hearings for the Proposed Airport, Angoon, Alaska

AGENCY: Federal Aviation Administration (FAA).

ACTION: Notice of availability (NOA), notice of comment period, notice of public hearing.

SUMMARY: In accordance with the National Environmental Policy Act of 1969 (NEPA; 42 U.S.C. 4321 et seq.) and Council on Environmental Quality (CEQ) regulations (40 CFR parts 1500-1508), the FAA issues this notice to advise the public that a Draft EIS for the proposed airport in Angoon has been prepared and is available for public review and comment. Included in the Draft EIS are a subsistence evaluation consistent with Section 810 of the Alaska National Interest Lands Conservation Act (ANILCA) and a draft evaluation pursuant to Section 4(f) of the Department of Transportation Act of 1966 (recodified as 49 U.S.C. 303(c)).

DATES: Comments must be received on or before March 11, 2015. The public comment period will commence on January 9, 2015 and will close on March 11, 2015. The FAA intends to host public information meetings and hearings on the Draft EIS/810 Evaluation/4(f) Evaluation on the following dates:

1. March 3, 2015 in Juneau, Alaska, at the Centennial Hall, 101 Egan Dr., Juneau, AK from 6:00 p.m. to 9:00 p.m.

2. March 5, 2015 in Angoon, Alaska, at the Angoon Community Association Building, 315 Heendae Rd., Angoon, AK from 2:00 p.m. to 7:00 p.m.

3. March 10, 2015 at the Holiday Inn, 550 C St. SW., Washington, DC, from 2:00 p.m. to 5:00 p.m.

ADDRESSES: Copies of the Draft EIS and the evaluations are available at the following locations:

1. Online at www.angoonairporteis.com

2. Juneau Public Library

• Downtown Branch, 292 Marine Way, Juneau, AK 99801

• Douglas Branch, 1016 3rd Street, Douglas, AK 99824

• Mendenhall Mall Branch, 9109 Mendenhall Mall Rd., Juneau, AK 99801

3. U.S. Forest Service, Admiralty Island National Monument Office, 8510 Mendenhall Loop Road, Juneau, AK 99801

4. Angoon Community Association Building, 315 Heendae Rd., Angoon, AK 99820

5. Angoon City Government Office, 700 Aan Deina Aat Street, Angoon, AK 99820

6. Angoon Senior Center, 812 Xootz Rd., Angoon, AK 99820

7. The FAA, Airports Division. Please contact Leslie Grey at (907) 271-5453 for a copy.

You may submit comments or request more information by any of the following methods:

1. Email: comments@angoonairporteis.com; include “Angoon Airport EIS comments” in the subject line of the message.

2. U.S. Mail: Angoon Airport EIS Comments, 1220 SW. Morrison, Suite 700, Portland, Oregon 97205.

3. In person: To drop off comments, contact Leslie Grey at (907) 271-5453.

Comments from interested parties on the Draft EIS are encouraged, and may be presented orally at the public hearings. Testimony will be limited to 5 minutes per speaker. The FAA encourages all interested parties to provide comments concerning the scope and content of the Draft EIS. Comments should be as specific as possible and address the analysis of potential environmental impacts and the adequacy of the proposed action or merits of alternatives and the mitigation being considered. Reviewers should organize their participation so that it is meaningful and makes the agency aware of the viewer's interests and concerns using quotations and other specific references to the text of the Draft EIS and related documents. Matters that could have been raised with specificity during the comment period on the Draft EIS may not be considered if they are raised for the first time later in the decision process. This commenting procedure is intended to ensure that substantive comments and concerns are made available to the FAA in a timely manner so that the FAA has an opportunity to address them.

FOR FURTHER INFORMATION CONTACT: Leslie Grey, AAL-611, Federal Aviation Administration, Alaskan Region, Airports Division, 222 W. 7th Avenue, Box #14, Anchorage, AK 99513. Ms. Grey may be contacted during business hours at (907) 271-5453 (telephone) and (907) 271-2851 (fax), or by email at Leslie.Grey@faa.gov.

SUPPLEMENTARY INFORMATION: The Alaska Department of Transportation and Public Facilities (DOT&PF) has requested funding and approval from the FAA for a new land-based airport and an access road to improve the availability and reliability of transportation services to and from Angoon. The DOT&PF's proposed action is located in the Admiralty Island National Monument and Kootznoowoo Wilderness Area (Monument-Wilderness Area). The FAA has proposed additional alternatives to the proposed action, including the no action alternative. The purpose and need is discussed in detail in the Draft EIS.

The proposed project would be comparable to other rural airports in Southeast Alaska, such as those at Kake or Hoonah. It would consist of a paved, 3,300-foot-long and 75-foot-wide runway, with future expansion to 4,000 feet long.

Construction of the proposed airport would be completed in two to three construction seasons. The impact categories considered in the Draft EIS include numerous categories as required by FAA Orders 1050.1E and 5050.4B. In addition, subsistence activities and wilderness character are evaluated. Because the DOT&PF's proposed action is located in the Monument-Wilderness Area, the DOT&PF has indicated that it intends to submit an application under ANILCA Title XI to use the lands, using the Draft EIS as supporting documentation.

Additional details regarding the project can be found on the project Web site at www.angoonairporteis.com.

Issued in Anchorage, Alaska, on December 31, 2014.
Byron K. Huffman,
Manager, Airports Division, AAL-600.

[FR Doc. 2015-00023 Filed 1-8-15; 8:45 am]

BILLING CODE 4910-13-P